DEPARTMENT OF THE INTERIOR

Bureau of Indian Affairs

Amendment to Notice of Intent To Prepare an Environmental Impact Statement for the Pueblo of Jemez's Proposed Trust Acquisition and Casino Project, Dona Ana County, New Mexico

AGENCY: Bureau of Indian Affairs, Interior.

ACTION: Notice.

SUMMARY: This notice advises the public that the Bureau of Indian Affairs (BIA) is amending its Notice of Intent to Prepare an Environmental Impact Statement (EIS) for the Pueblo of Jemez's Proposed Trust Acquisition and Casino Project, Dona Ana County, New Mexico, published in the Federal Register on March 1, 2005 (70 FR 9963-9964), which described the proposed action. In response to a request by an interested party, and in the interest of providing the public the fullest reasonable opportunity to participate in the scoping process for this EIS, this amendment reopens the public comment period for an additional 30 days.

DATES: Written comments on the scope of the EIS or implementation of the proposal must arrive by June 17, 2005.

ADDRESSES: You may mail or hand carry written comments to Mr. Larry Morrin, Regional Director, Southwest Regional Office, Bureau of Indian Affairs, P.O. Box 26567, Albuquerque, New Mexico 87125. Please include your name, return address, and the caption, “DEIS Scoping Comments, Pueblo of Jemez Trust Acquisition and Casino Project,” on the first page of your written comments.

FOR FURTHER INFORMATION CONTACT: Dawn Selwyn, (505) 563-3106.

SUPPLEMENTARY INFORMATION: Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

This notice is published in accordance with section 1503.1 of the Council of Environmental Quality Regulations (40 CFR parts 1500 through 1508) implementing the procedural requirements of the National Environmental Policy Act of 1969, as amended (42 U.S.C. 4371 et seq.), Department of the Interior Manual (516 DM 1-6), and is in the exercise of authority delegated to the Principal Deputy Assistant Secretary—Indian Affairs by 209 DM 8.l.

Dated: May 6, 2005.
Michael D. Olsen,
Principal Deputy Assistant Secretary—Indian Affairs.

[FR Doc. 05-9846 Filed 5-17-05; 8:45 am]

BILLING CODE 4310-W7-P